FEDERAL COMMUNICATIONS COMMISSION

[OMB 3060-1260]

Information Collection Approved by the Office of Management and Budget

AGENCY: Federal Communications Commission.

ACTION: Notice.

SUMMARY: The Federal Communications Commission (FCC) has received Office of Management and Budget (OMB) approval for public information collection pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Cathy Williams, Office of the Managing Director, at (202) 418-2918, or email: Cathy.Williams@fcc.gov.

SUPPLEMENTARY INFORMATION:

The total annual reporting burdens and costs for the respondents are as follows:

OMB Control Number: 3060-1260.

OMB Approval Date: April 15, 2019.

OMB Expiration Date: April 30, 2022.

Title: Broadcast Incubator Program.

Form Number: N/A.

Respondents: Business or other for-profit entities; not-for-profit institutions; Tribal Governments.

Number of Respondents and Responses: 20 respondents; 123 responses.

Estimated Time per Response: 4 to 16 hours.

Frequency of Response: On occasion reporting requirement; annual reporting requirement.

Obligation to Respond: Required to obtain or retain benefits. The statutory authority that covers this information collection is 47 U.S.C. 151, 152(a), 154(i), 257, 303, 307-310, and 403.

Total Annual Burden: 1,179 hours.

Total Annual Cost: $326,700.

Privacy Impact Assessment: No impact(s).

Nature and Extent of Confidentiality: The need for confidentiality for this information collection is not anticipated; however, when submitting an incubation proposal (including the underlying contract and certified statements), applicants may, upon request, redact confidential or proprietary terms.

Needs and Uses: The Office of Management and Budget (OMB) approved the information collection titled “Broadcast Incubator Program” under OMB Control No. 3060-1260, as a result of a recent rulemaking, FCC 18-114.

On August 3, 2018, the Commission released a Report and Order (Order), Rules and Policies to Promote New Entry and Ownership Diversity in the Broadcasting Services, FCC 18-114, in MB Docket No. 17-289, establishing the requirements that will govern the incubator program that the Commission previously decided to adopt to support the entry of new and diverse voices into the radio broadcast industry. The incubator program is designed for small businesses, struggling station owners, and new entrants that do not have any other means to access the financial assistance and operational support necessary for success in the broadcast industry. The goal is the pairing of these small aspiring, or struggling, broadcast station owners with established broadcasters. These incubation relationships will provide new entrants and struggling small broadcasters access to the financing, mentoring, and industry connections that are necessary for success in the industry, but to date have been unavailable to many. In return for successfully incubating a small aspiring, or struggling, broadcast station owner as part of the Commission's incubator program, an incumbent broadcaster will be eligible to receive a waiver (a reward waiver) of the Commission's Local Radio Ownership Rule following the successful conclusion of a successful qualifying incubation relationship. The standard term for an incubation relationship is three years.

Commission staff will use the applications, certified statements, and contracts submitted by potential incubating and incubated entities, along with any responses to Commission requests for additional information to determine qualifications for participation in the incubator program.

Commission staff will use the periodic reports to determine whether ongoing incubation relationships are proceeding in a manner consistent with the parties' initial filings and are likely to result in a successful incubation relationship. At the end of a successful incubation relationship, either the incubated entity will own and operate a full-service AM or FM station independently or the incubated station will be on a firmer footing if the station was struggling at the start of the relationship.

In the event the parties seek to extend the duration of their incubation relationship beyond the standard three-year term, the filing of a request for such an extension will enable Commission staff to gauge the types of problems incubating parties are experiencing. Information provided by the parties to the Commission no later than six months before the contract termination date will allow Commission staff to evaluate which option for station ownership the incubating parties plan to pursue at the conclusion of the relationship—i.e., whether the incubated entity plans to keep the incubated station or purchase a new station. Additionally, Commission staff will review documentation submitted to seek a reward waiver to assess whether the market where the reward waiver is sought is comparable to the market where the incubated station was located.

Federal Communications Commission.
Katura Jackson,
Federal Register Liaison Officer.

[FR Doc. 2019-12310 Filed 6-10-19; 8:45 am]

BILLING CODE 6712-01-P